DEPARTMENT OF ENERGY

Federal Energy Regulatory Commission

[Docket No. AD02-14-000]

Conference on Emergency Reconstruction of Interstate Natural Gas Infrastructure; Notice of Conference

April 2, 2002.

On April 22, 2002 at 9 a.m. in the Commission Meeting Room (2C), staff from the Federal Energy Regulatory Commission (Commission) and from the Office of Pipeline Safety (OPS) of the Department of Transportation will convene a technical conference to begin discussions with interested parties on whether and how to clarify, expedite and streamline permitting and approvals for interstate pipeline reconstruction in the event of disaster, whether natural or otherwise.

Commission and OPS staff will provide an overview of their current regulatory processes and recent experiences for dealing with emergency situations. Additionally, Commission and OPS staff will facilitate discussions on possible approaches to expedite permitting emergency reconstruction of natural gas facilities. Other participants, including relevant Federal agencies and representatives of industry, will describe their responsibilities and present their views.

In order to more clearly focus the discussion at the technical conference, other potential presenters should consider the following questions and present their responses at the conference:

• What industry practices exist to respond to incidents of intentional or accidental damage? Does the industry need additional flexibility to respond to such incidents? What are the antitrust implications of pipeline companies coordinating construction and operations to restore service?

• What existing state processes are there which may be useful to coordinate emergency responses across a diffuse community of industry and regulatory interests?

• Are there any existing regulations and authorities that could be relied on to facilitate rerouting or reconstruction in the event of an emergency? Are these sufficient to ensure that reconstructed facilities are placed in service as expeditiously as possible? If not, what changes may be warranted? Are modifications to, or waivers of, regulatory requirements called for?

• How can compliance with the National Environmental Policy Act (NEPA) be assured and expedited? Can a generic public interest/national security finding be made that avoids case-specific environmental assessment in order to permit a pipeline company to commence immediate construction?

• In the event of an emergency, what agency should take the lead? What government entity makes the determination that a particular incident constitutes an emergency, and what are the implications of this? How will agencies cooperate on needed actions and authorizations to ensure rapid reconstruction and restoration of service? What are the roles of other agencies, State and local governments, and the regulatory authorities in Canada and Mexico?

• Should the Commission have the authority to compel construction in certain emergency circumstances? Should companies be compelled to construct redundant facilities for certain high-risk/high-profile targets? Who should pay for any compelled construction?

We will issue further details on the conference, including the agenda and a list of participants, as plans evolve. For additional information, please contact Carol Connors in the Office of External Affairs at carol.connors@ferc.gov.

Magalie R. Salas,
Secretary.

[FR Doc. 02-8400 Filed 4-5-02; 8:45 am]

BILLING CODE 6717-01-P